DEPARTMENT OF HOUSING AND URBAN DEVELOPMENT

[Docket No. FR-4821-N-01]

Notice of Proposed Information Collection: Comment Request; Investor and Issuer Benchmark Surveys

AGENCY: Office of the President of Government National Mortgage Association (Ginnie Mae), HUD.

ACTION: Notice.

SUMMARY: The proposed information collection requirement described below will be submitted to the Office of Management and Budget (OMB) for review, as required by the Paperwork Reduction Act. The Department is soliciting public comments on the subject proposal.

DATES: Comments Due Date: April 11, 2003.

ADDRESSES: Interested persons are invited to submit comments regarding this proposal. Comments should refer to the proposal by name and/or OMB Control Number and should be sent to: Sonya Suarez, Office of Program Operations, Department of Housing and Urban Development, 451-7th Street, SW., Room 6206, Washington, DC 20410.

FOR FURTHER INFORMATION CONTACT: Sonya Suarez, Ginnie Mae, (202) 708-2884 (this is not a toll-free number) for copies of the proposed forms and other available documents.

SUPPLEMENTARY INFORMATION: The Department will submit the proposed information collection to OMB for review, as required by the Paperwork Reduction Act of 1995 (44 U.S.C. Chapter 35, as amended).

The Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology, e.g., permitting electronic submission of responses.

This Notice also lists the following information:

Title of Proposal: Investor and Issuer Benchmark Surveys.

OMB Control Number, if applicable: N/A.

Description of the need for the information and proposed use: Ginnie Mae is currently engaged in assessing how the agency and its products are seen by current and potential issuers of and investors in secondary market securities. This proposed survey research on how Ginnie Mae and its products are perceived compared to competing entities and products in the secondary mortgage market will help Ginnie Mae improve its product offerings, services, communications and outreach to current and prospective issuers and investors in Ginnie Mae securities.

Members of affected public: For-profit business (secondary market mortgage companies and institutional investors).

Estimation of the total number of hours needed to prepare the information collection, including number of respondents, frequency of response, and hours of response: Estimates of the hour burden of collecting information for the forms are as follows:

Number of respondents | Frequency of responses | × | Total of responses | × | Hours. per response | = | Total hours
1,000 | 1 |  | 1,000 |  | .25 |  | 250

Status of the proposed information collection: This is a new collection.

Authority: Section 3506 of the Paperwork Reduction Act of 1995, 44 U.S.C. Chapter 35, as amended.

Dated: January 17, 2003.
George S. Anderson,
Executive Vice President, Ginnie Mae.

[FR Doc. 03-3126 Filed 2-7-03; 8:45 am]

BILLING CODE 4210-66-M